DEPARTMENT OF HEALTH AND HUMAN SERVICES

Centers for Disease Control and Prevention

National Institute for Occupational Safety and Health Advisory Board on Radiation and Worker Health

In accordance with section 10(a)(2) of the Federal Advisory Committee Act (Pub. L. 92-463), and pursuant to the requirements of 42 CFR 83.15(a), the Centers for Disease Control and Prevention (CDC) announces the following committee meeting:

Name: Advisory Board on Radiation and Worker Health(ABRWH), National Institute for Occupational Safety and Health (NIOSH) and Subcommittee for Dose Reconstruction and Site Profile Reviews.

Subcommittee Meeting Times and Dates:

7:30 a.m.-8:30 a.m., July 6, 2005.

7:30 a.m.-9 a.m., July 7, 2005.

Committee Meeting Times and Dates:

1 p.m.-6 p.m., July 5, 2005.

7:30 p.m.-9 p.m., July 5, 2005.

8:30 a.m.—5:30 p.m., July 6, 2005.

9 a.m.-4:15 p.m., July 7, 2005.

4:15 p.m.-5:45 p.m., July 7, 2005.

Place: Chase Park Plaza Hotel, 212-232 N. Kingshighway Blvd., St. Louis, Missouri 63108, telephone: 314-633-1000, fax: 314-633-1144.

Status: Open to the public, limited only by the space available. The meeting space accommodates approximately 200 people.

Background: The ABRWH was established under the Energy Employees Occupational Illness Compensation Program Act (EEOICPA) of 2000 to advise the President, delegated to the Secretary of Health and Human Services (HHS), on a variety of policy and technical functions required to implement and effectively manage the new compensation program. Key functions of the Board include providing advice on the development of probability of causation guidelines which have been promulgated by HHS as a final rule, advice on methods of dose reconstruction which have also been promulgated by HHS as a final rule, advice on the scientific validity and quality of dose estimation and reconstruction efforts being performed for purposes of the compensation program, and advice on petitions to add classes of workers to the Special Exposure Cohort (SEC). In December 2000, the President delegated responsibility for funding, staffing, and operating the Board to HHS, which subsequently delegated this authority to the CDC. NIOSH implements this responsibility for CDC. The charter was issued on August 3, 2001, and renewed on August 3, 2003.

Purpose: This board is charged with (a) providing advice to the Secretary, HHS on the development of guidelines under Executive Order 13179; (b) providing advice to the Secretary, HHS on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Matters to be Discussed: Agenda for this meeting will focus on comments by Members of Congress; Review of the Draft Minutes; Bethlehem Steel Technical Basis Document; Y-12 Site Profile; Y-12 SEC Petition; Board Discussion of Y-12 SEC Petition; Iowa Army Ammunition Plant (IAAP) SEC Petition; Board Discussion of IAAP SEC Petition; Mallinckrodt Site Profile; Mallinckrodt SEC Petition; Board Discussion of Mallinckrodt SEC Petition; Policy Issues related to SEC Petitions; SC&A Task III/Workbook Issues; Report on the review of the first 20 Dose Reconstructions; Report on the review of the second 18 Dose Reconstructions; SC&A Contract Issues; Board Discussion; Program Updates; and Science Issues. There will be an evening general public comment period scheduled for July 5, 2005 and one on the afternoon on July 7. Summaries of the petitions for designation of classes of employees at Mallinckrodt, IAAP, and the Y-12 Plant as members of the SEC and the NIOSH findings from evaluating the petitions that will be considered are as follows: Mallinckrodt Chemical Company, Destrehan Street Plant, St. Louis, Missouri, the entire uranium division, 1942-1957. The NIOSH SEC Petition Evaluation Report and Supplement for Mallinckrodt 1949-1957 finds sufficient scientific and technical basis to estimate radiation doses.

IAAP, Line 1, Burlington, Iowa, 1947-1974. The NIOSH SEC Petition Evaluation Report finds it is not feasible to estimate radiation doses potentially incurred by radiographers with sufficient accuracy from May 1948 to March 1949.

Y-12 Plant, Oak Ridge, Tennessee, Control Operators, January 1944 through December 1945. The NIOSH SEC Petition Evaluation Report finds it is not feasible to estimate radiation doses with sufficient accuracy for employees who worked in uranium enrichment operations or other radiological processes at the Y-12 facility from March 1943 through December 1947.

The agenda is subject to change as priorities dictate.

In the event an individual cannot attend, written comments may be submitted. Any written comments received will be provided at the meeting and should be submitted to the contact person below well in advance of the meeting.

Contact Person for More Information: Dr. Lewis V. Wade, Executive Secretary, NIOSH, CDC, 4676 Columbia Parkway, Cincinnati, Ohio 45226, telephone (513) 533-6825, fax (513) 533-6826.

Due to programmatic issues that had to be resolved, the Federal Register notice is being published less than fifteen days before the date of the meeting.

The Director, Management Analysis and Services Office, has been delegated the authority to sign Federal Register notices pertaining to announcements of meetings and other committee management activities for both the Centers for Disease Control and Prevention and the Agency for Toxic Substances and Disease Registry.

Dated: June 16, 2005.
Alvin Hall,
Director, Management Analysis and Services Office, Centers for Disease Control and Prevention.

[FR Doc. 05-12292 Filed 6-21-05; 8:45 am]

BILLING CODE 4163-19-P